DEPARTMENT OF TRANSPORTATION

Federal Highway Administration

Notice of Final Federal Agency Actions on Transportation Project in Nebraska

AGENCY: Federal Highway Administration (FHWA), Department of Transportation (DOT).

ACTION: Notice of limitation on claims for judicial review.

SUMMARY: This notice announces actions taken by the FHWA, on behalf of the Lincoln/Lancaster County Railroad Transportation Safety District (RTSD), that are final. The action(s) relate to the North 33rd and Cornhusker Project (also known as the 33rd/Cornhusker Viaduct, Lincoln Project), located in the City of Lincoln, Lancaster County, Nebraska. Those actions grant licenses, permits, and approvals for the project. The project closes the at-grade railroad crossings at N. 33rd Street and Adams Street by improving the roadway network in this area and constructing a grade separation across the Burlington Northern Santa Fe (BNSF) Railway tracks at approximately N. 31st Street, south of Cornhusker Highway. The existing at-grade crossing at N. 44th Street will remain open to vehicle, bicycle, and pedestrian traffic and will be improved. Cornhusker Highway will be expanded to six lanes with turn lanes from Deadmans Run to 35th Street. The FHWA's National Environmental Policy Act (NEPA) Finding of No Significant Impact (FONSI) provides details on the Selected Alternative for the proposed improvements.

DATES: A claim seeking judicial review of the Federal agency actions on the listed highway project will be barred unless the claim is filed on or before February 2, 2026. If the Federal law that authorizes judicial review of a claim provides a time period of less than 150 days for filing such claim, then that shorter time period still applies.

FOR FURTHER INFORMATION CONTACT:

For FHWA: James Simerl, Acting Division Administrator, Federal Highway Administration, 100 Centennial Mall North, Room 220, Lincoln, NE 68508, (402) 742-8460, james.simerl@dot.gov.

For RTSD: Roger Figard, RTSD Executive Director, 555 South 10th Street, Lincoln, NE, 68508, (402) 525-5620, rfigard@lincoln.ne.gov.

SUPPLEMENTARY INFORMATION: Notice is hereby given that FHWA has taken final agency actions within the meaning of 23 U.S.C. 139(l)(1) by issuing a NEPA FONSI for the North 33rd and Cornhusker Project in Lincoln, Nebraska. The action(s) by FHWA and the laws under which such actions were taken are described in the FONSI and the associated agency records. That information is available by contacting FHWA at the addresses provided above.

The purpose of the project is to improve safety along the rail corridor between N. 27th and N. 48th streets by eliminating or reducing the potential conflict points between trains and other transportation modes (vehicles, pedestrians, and bicyclists). The project is needed due to the high volume of vehicular and train traffic in the area along the BNSF rail corridor between N. 27th and N. 48th Streets. The high-volume traffic creates undesirable conditions regarding safety, traffic congestion, traffic delay, and mobility within the project area. In addition, facilities for walking, cycling, and public transit do not meet existing, or future needs for the area. A FONSI for the project was signed on May 9, 2025.

Information about the FONSI and associated records are available from FHWA at the addresses provided above and can be found at: https://dot.nebraska.gov/projects/environment/environmental-documents/, or obtained by contacting the individuals listed above. This notice applies to all Federal agency decisions related to the FONSI as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and 1536]. Fish and Wildlife Coordination Act [16 U.S.C. 661-667(d)]. Migratory Bird Treaty Act [16 U.S.C. 703-712]. Bald and Golden Eagle Protection Act [16 U.S.C. 668-668c]. Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)];

6. Social and Economic: Civil Rights Act of 1964 [42 U.S.C. 2000d et seq.]; Farmland Protection Policy Act [7 U.S.C. 4201-4209].

7. Wetlands and Water Resources: Clean Water Act (Section 319, Section 401, Section 402, Section 404) [33 U.S.C. 1251-1377]. Safe Drinking Water Act [42 U.S.C. 300(f) et seq.].

8. Executive Orders: Executive Order 11990 Protection of Wetlands; Executive Order 11988 Floodplain Management; Executive Order 11593 Protection and Enhancement of Cultural Resources; Executive Order 13007 Indian Sacred Sites; Executive Order 13287 Preserve America; Executive Order 13175 Consultation and Coordination with Indian Tribal Governments; Executive Order 11514 Protection and Enhancement of Environmental Quality; Executive Order 13112 Invasive Species; Executive Order 13045 Protection of Children From Environmental Health Risks and Safety Risks.

(Authority: 23 U.S.C. 139(l)(1).)

James Simerl,
FHWA Acting Division Administrator, Lincoln, NE.

[FR Doc. 2025-17078 Filed 9-4-25; 8:45 am]

BILLING CODE 4910-RY-P